DEPARTMENT OF TRANSPORTATION

Research and Special Programs Administration

[Docket No. RSPA-98-4957]

Request for Public Comments and OMB Approval of Existing Information Collection

AGENCY: Research and Special Programs Administration (RSPA), DOT.

SUMMARY: As required by the Paperwork Reduction Act of 1995, the Research and Special Programs Administration, Office of Pipeline Safety published its intention to revise forms RSPA F 7100.1, Incident Report for Gas Distribution Systems, and Form RSPA F 7100.1-1, Annual Report for Gas Distribution Systems, (68 FR 33759, June 5, 2003). Several operators, two trade associations representing natural gas distribution pipeline operators, one state utility commission, and one individual provided comments. The purpose of this additional notice is to provide the public an additional 30 days to comment on the proposed revisions to the natural gas distribution incident and annual reporting forms, including the form instructions.

DATES: Comments on this notice must be received by January 30, 2004, to be assured of consideration.

FOR FURTHER INFORMATION CONTACT: Shauna Turnbull by telephone at (202) 366-3731, by fax at (202) 366-4566, by e-mail at shauna.turnbull@rspa.dot.gov, or by mail at the DOT/RSPA Office of Pipeline Safety, DPS-13, 400 Seventh Street, SW., Washington, DC 20590.

ADDRESSES: Copies of the proposed information collection and the revised forms and instructions can be viewed in this docket at http://dms.dot.gov. You may also visit the Dockets Facility, U.S. Department of Transportation, Plaza 401, 400 Seventh Street, S.W., Washington, D.C. 20590-0001. Comments should identify the docket number of this notice, RSPA-98-4957, and can be mailed directly to: Office of Information and Regulatory Affairs OIRA), Office of Management and Budget (OMB), 726 Jackson Place, N.W., Washington, D.C. 20503, ATTN: Desk Officer for Department of Transportation (DOT).

SUPPLEMENTARY INFORMATION:

Filing Information

The Dockets facility is open from 10 a.m. to 5 p.m., Monday through Friday, except federal holidays. You should submit an original and one copy of a comment. If you wish to receive confirmation of receipt of your comments, you must include a stamped, self-addressed postcard. To file written comments electronically, after logging onto http://dms.dot.gov, click on “Electronic Submission.” You can read comments and other material in the docket at: http://dms.dot.gov. General information about our pipeline safety program is available at: http://ops.dot.gov.

Background

Operators of pipeline systems subject to the Research and Special Programs Administration/Office of Pipeline Safety (RSPA/OPS) natural gas distribution systems pipeline safety regulations are required to report annually, and for each reportable incident, certain information about those systems. RSPA/OPS uses this information to compile a national pipeline inventory, to identify and determine the scope of safety problems, and to target inspections. The information provides the basis for more efficient and meaningful analyses of RSPA/OPS gas distribution pipeline incident and annual data.

RSPA/OPS uses pipeline incident and annual data to identify safety issues and to target risk-based inspections. The data are collected from incidents reported by operators on RSPA Form F 7100.1, Incident Report—Gas Distribution Pipelines. Operators are required to file an incident report form within thirty days after a reportable incident occurs. Annual information is collected from operators reporting on RSPA Form F 7100.1-1, Annual Report “ Gas Distribution Pipelines. Operators are required to file annual report forms with RSPA/OPS by March 15th for the preceding calendar year.

RSPA/OPS published a notice in the Federal Register on June 5, 2003 (68 FR 33759) inviting comments on proposed revisions to the gas distribution pipeline operator incident and annual reports and associated instructions. These revisions require operators to submit information necessary for the normalization of incident information for safety trend analysis. The proposed changes are intended to make information collection more useful to the public, government agencies, and industry.

Summary of Comments

In response to the Federal Register notice of June 5, 2003 (68 FR 33759) RSPA/OPS received comments from the American Gas Association (AGA), the American Public Gas Association (APGA), the State of Colorado Public Utilities Commission (CPUC), Southern Connecticut Gas and the Connecticut Natural Gas Corporation (Connecticut), Consolidated Edison Company of New York, Inc. (Con Edison), Southwest Gas Corporation (Southwest), Atmos Energy Corporation (Atmos), and Mr. John Erikson, Pipeline Safety Consultant (Mr. Erikson). The comments and RSPA/OPS responses are summarized below for the proposed incident and annual report forms and instructions.

Incident Report Form RSPA F 7100.1

Operator Time Burden

AGA expects that, at least for the first year, the operator burden for completing the forms will exceed the estimated 12 hour completion time and cost burden. Gas distribution pipeline operators usually computerize the collection of incident and annual report form data.

Approximately five percent of the workforce may have to be trained to manage the new data format. One operator estimated that $40,000 would be spent to reprogram the data systems that collect, record, validate, retrieve, and process this information. APGA states that asking for extraneous information will increase compliance costs.

RSPA/OPS Response: RSPA/OPS agrees with the comment that the amount of time to complete the forms was underestimated in the notice. We have considered the extra impact of computerization and the cost of increased training, and have doubled the amount of estimated time to complete the required incident and annual report forms.

RSPA/OPS believes that the time differential for filing a revised incident report compared to the existing incident report is small, because the form is completed for only one of the 25 cause categories for any given incident. Furthermore, because only a small percentage of distribution operators have reportable incidents, the cumulative total time for filing the revised annual information with RSPA/OPS will not increase significantly.

The revised natural gas distribution pipeline operator annual report is substantially unchanged, with the major revision being the addition of the new table for mileage by decade of installation. The increased time to file the new information for mileage by decade of installation should not be substantial for most companies, because the information will be readily available in existing computerized systems for those decades for which the information is available. When the information is not available, RSPA agrees that mileage should be tabulated in the “Unknown” category, in lieu of an extensive and costly information gathering effort. For those operators with computerized systems, there would be an initial cost for conversion to provide the information in the tabulated format, but RSPA/OPS believes the cost would be minimal and the value of collecting the information outweighs completion time or conversion costs. Smaller companies without computerization of the information would generally have little mileage to tabulate. This would result in a minimal increase in preparation time relative to the time required to complete the current form.

Operator Cost Burden

AGA stated that:

* * * [p]roper trending of incidents needs to account for inflationary cost increases. The $50,000 [property damage] incident reporting threshold has not been increased for more than ten years. The effect of inflation over a period of time involving the past decades can be considerable.

For example, a $50,000 loss in 1989 dollars would be equivalent to $61,543 in 1998. Conversely, if inflation is ignored, a $50,000 incident today can be compared to a $40,622 incident in 1989. Thus, when adjusted for inflation, natural gas distribution incidents decreased from 105 in 1989 to 98 in 1998. Accordingly, AGA suggests that, as part of a future rulemaking, OPS consider raising the monetary threshold for incident reporting to a higher limit. Additionally, any reporting of intrastate incidents meeting lower cost thresholds (e.g., $5,000) should be identified and segregated from the $50,000 incidents.

RSPA/OPS response: RSPA/OPS interprets AGA's comment to mean that if operators were required to report incidents with property damage of $50,000 in 1989, they would estimate the change in the consumer price index and report only incidents with a real cost of $50,000 in 2003. Although this would save operators a small amount of money in reduced paperwork costs, it would cause a great loss to RSPA/OPS in terms of safety information. For instance, if there were 10 fewer incidents reported per year, this would save operators 120 hours per year if each incident took 12 hours to report. At $80 per hour, the total savings would be less than $1,000 per year. However, if the information from any incident helped RSPA/OPS identify a potential problem that could prevent one major incident in the future, the value of this information would potentially prevent an incident that could cost millions of dollars in property damage, as well as preventing potential injuries or fatalities.

RSPA/OPS feels the small burden of reporting incidents resulting in $50,000 or more in property damage is outweighed by the benefit of the information provided. Due to the relative scarcity of pipeline incidents, the information that is gained from any one incident is very valuable and justifies the minimal expense to the operators.

Data Clarity and Intended Use

APGA observed that if data elements and instructions are unclear, incorrect data submissions will make it less likely that statistically significant conclusions could be drawn from the information. APGA supports data collection if the data is readily available and beneficial, but urges RSPA/OPS not to collect data unless it can identify how it will be used in analyses. Moreover, APGA urges RSPA/OPS to provide information on the intended use for each data element requested.

RSPA/OPS response: RSPA/OPS agrees that unclear instructions could result in incorrect submissions and our goal is to ensure that all instructions are as clear as possible. However, practicality and resource constraints prohibit line-by-line justification of each requested data element. Current RSPA/OPS forms are based on the work of two separate data teams that extensively evaluated reporting needs, taking into consideration the American Society of Mechanical Engineers (ASME) cause categories contained in standard ASME B31.4. These cause categories have already been adopted for natural gas transmission incident and hazardous liquid accident report forms beginning in 2002, along with the adopted stakeholder best practices. RSPA/OPS based its submission requirements on this information and concludes that its data requests are reasonable and cost of compliance is minimal.

Item Labeling

AGA, Con Edison, and Southwest recommend renumbering subsections to correct sequential item identification. Various minor renumbering suggestions were made to improve form flow. For brevity's sake, they are not individually outlined in this summary.

RSPA/OPS response: Renumbering and reformatting suggestions are accepted as general recommendations for proper formatting and increased clarity.

Latitude/Longitude

AGA and APGA request definition of the phrase “projections and datum used in collecting this data.” Both associations ask for clear identification of where this information is to be entered on the form or elimination of the phrase from the form instructions.

AGA alleged that many local distribution company operators may not have latitude and longitude information and the information would more likely be used by cross-country pipeline operators. AGA also noted that while Tiger/Line Data tools were considered helpful in locating latitude and longitude, AGA believes it is important for operators to understand how the data would be used so they could support RSPA/OPS data trending efforts. AGA recommends the inclusion of form instructions that demonstrate how latitude/longitude data would be used.

APGA tested logon time to the tiger.census.gov website (http://tiger.census.gov/cgi-bin/mapbrowse-tbl) to determine the time required to pinpoint the latitude and longitude of the APGA office using a broadband internet connection. This effort required approximately ten minutes and provided an address to seven decimals. However, the form's space allotment does not provide enough room for numbers of this size.

APGA believes there is no known or proven geographical trend in incidents. If no potential use for this data can be identified, APGA urges RSPA/OPS to delete it from the form and instructions. If, however, RSPA/OPS chooses to continue to ask for the data, it should specify how many decimals to include and provide sufficient space on the form.

Southwest stated that the additional request for latitude and longitude requires an increase in man-hours of approximately ten to thirty minutes using the website, depending on the location to research. Southwest finds the website non-user friendly and states that returned results were only marginally accurate because gas lines are not shown on base maps. Southwest believes these fields should be removed if they are not going to be significant in analysis.

APGA and Southwest question the value of collecting latitude/longitude data and its application for incident analyses.

RSPA/OPS Response: We have eliminated the request for projections and datum used in collecting latitude/longitude information. However, RSPA/OPS requests latitude and longitude information for the specific purpose of obtaining a location description to pinpoint the site of the incident. Without this information, RSPA/OPS would not be able to geographically locate most incidents.

Furthermore, RSPA/OPS is often requested by Congress to provide maps of gas pipeline incidents, necessitating this data collection. RSPA/OPS is also working to create risk-based tools to assist in targeting solutions where problems occur, to identify risks in highly-populated corridors, and to identify future risks in expected growth corridors. Latitude and longitude information further provides macro level information necessary to develop these risk-based tools.

RSPA/OPS is requiring latitude and longitude to be stated in decimal degrees with a minimum of five decimal places. No projection is required. Form instructions have been clarified to further explain how latitude and longitude should be reported. In the event operators lack GIS capability, latitude and longitude is readily available on the Internet. As APGA noted, and tests by RSPA/OPS confirm, trials to access the Tiger/Line were successful within ten minutes or less. Note, however, that operators are not required to use the Tiger/Line site. Many similar Internet tools are available that will facilitate provision of latitude/longitude coordinates.

Federal Land Incident

AGA and Southwest allege that it is the responsibility of RSPA/OPS to obtain federal land location, and not that of the operator. Definitions for “federal land” provided for the incident and annual reports are cited as inconsistent. A recommendation was made to use the same definition in both instructions.

RSPA/OPS Response: RSPA/OPS requires Federal Land identification for incidents that occur on federal lands to comply with 30 U.S.C. 185. RSPA/OPS has revised the definition in the form instructions to state: “All lands owned by the United States except lands in the National Park System, lands held in trust for an Indian or Indian tribe, and lands on the Outer Continental Shelf.”

Type of Leak or Rupture

AGA stated: “[t]ype of leak or rupture asks the operator for a puncture diameter in inches. There may be situations where the puncture is not circular in shape. If this data is to be used to calculate areas of the puncture opening, rectangular dimensions should also be sought for punctures that approach a rectangular shape.”

RSPA/OPS response: It is not the intent of RSPA/OPS to restrict measurements to circular dimensions. For the purposes of this data collection, provide length in inches of a representational cross section of the leak or rupture, or diameter, whichever best suits the shape of the puncture. We further clarify this in the instructions.

Leak Reporting

APGA stated:

OPS asks operators to report the type of leak or rupture. The instructions for this section are confusing. In the instructions OPS includes a note to operators not to report leaks that are either inconsequential or incidental to the operation of the pipeline and which can be repaired under routine daily maintenance. Neither of these types of leaks would be involved in an incident, therefore would not be reported on the incident form under any circumstances. The instructions would be more clear if this note would simply state that the operator should only report information about the one leak that the operator has determined to be the proximate cause of the incident.

RSPA/OPS response: RSPA/OPS agrees with the comment and is clarifying the instructions accordingly.

Pinhole Leaks

Southwest comments:

* * * RSPA/OPS has not defined what constitutes a pinhole. If operators are left to interpret this, each operator will have its own definition of a pinhole—that will vary from operator to operator. This in effect will minimize the usefulness of any type of meaningful analysis because of the various criteria used to establish the date. Southwest suggests that RSPA/OPS define what constitutes a pinhole.

RSPA/OPS Response: RSPA/OPS agrees with the comment concerning the need for a definition of “pinhole” and will define a “pinhole” as one that is hard to see with the naked eye characterized as being a small hole made as by a pin.

Consequences—Reporting Reasons

Connecticut commented on the section of the form titled “Consequences.” The current report has a heading for the same type of information, titled “Reasons for Reporting.” Those reasons align directly with criteria in 49 CFR Part 191—to make clear for reporting purposes why the Operator is reporting the incident. The proposed change in the section heading from “Reasons for Reporting” to “Consequences” substantially alters the meaning and causes confusion with the current report. Connecticut recommends the section heading be retained as “Reasons for Reporting.” Additional recommendations include retaining all the areas under “Reasons for Reporting” as in the existing report and in alignment with Part 191 reporting criteria.

The two proposed additions, “gas ignited” and “evacuation,” are not specific Part 191 reporting criteria and can be open to interpretation and confusion. Connecticut asks, “[i]f during a planned purging operation, an operator ignited and burned off gas, would that trigger a report, since “gas ignited” is now one of the “consequences, or if 3 people were evacuated from a home by the Fire Department because of a gas odor due to a pilot light out (non-jurisdictional), would that trigger a Report?”

RSPA/OPS response: All the items in this revised section are not triggers (i.e., gas ignited and evacuation) for filing a natural gas distribution incident. The “Consequences” title has been adopted to align with the gas transmission form and the hazardous liquid accident form revisions that also adopted the revised heading for this section. A “reason for reporting” is readily discernable regardless of what the section heading is labeled. For consistency with the natural gas transmission and hazardous liquid incident and accident forms, RSPA/OPS therefore retains the proposed “Consequences” title for this section.

The “gas ignited” and “evacuation” events will not trigger a report filing, because these revisions do not change the reporting criteria.

Estimated Property Damage/Loss

AGA asks that cost of relighting gas services shut off due to incidents be included in the instructions for estimated costs because all property damages related to the incident should be reported. Southwest requests clarification if relighting costs are to be included in the total dollars for property damage.

RSPA/OPS response: We agree and we will clarify that relighting costs are to be included in the instructions.

Gas Ignited—Explosion or No Explosion

The current form instructions require operators to report whether gas ignited with or without an explosion, but do not clarify at what point in time “explosion” is considered to have occurred or what constitutes a fire or explosion. AGA and Southwest suggest adoption of definitions based on National Fire Protection Association (NFPA) standards.

APGA states that an unconfined cloud of natural gas cannot explode (i.e., causing a shock wave that causes damage outside the immediate area of the gas cloud). If gas is ignited within a confined space (e.g., within a building) it can cause the building to explode. APGA does not understand how RSPA/OPS would treat an incident differently depending on whether property damage was caused by fire or explosion of a structure. Given the confusion about what is or is not an explosion, any analysis relying on this data element is unlikely to provide statistically significant results. APGA suggests that the term “explosion” not be included on the form, but instead that RSPA/OPS ask whether the gas ignited or did not ignite. Con Edison recommends re-labeling the field “Gas Ignited—No Explosion” to “Gas Ignited”.

RSPA/OPS Response: To provide needed clarity, RSPA/OPS has relabeled block 5d on the form to “Gas Ignited,” adding two checkbox options, one appearing as “explosion” and the other as “no explosion.” Block 5e has been relabeled as “Gas Did Not Ignite,” adding checkbox options “explosion” and “no explosion.” RSPA/OPS did not propose to adopt a definition of ignition, fire, or explosion based on NFPA standards. We will continue to rely on the common understanding of these terms as reflected in NFPA and other documents and standards.

Evacuation Reason

RSPA/OPS asks operators to estimate the number of persons evacuated as a result of the incident. Commenters noted that evacuation is sometimes performed by firemen, police, or other emergency officials, in which case the operator may not know how many persons were evacuated. Even when the operator requests evacuation, obtaining an accurate count of the number of persons is not and should not be a priority. RSPA/OPS should clarify that the operator is not expected to expend significant time and effort to determine this number. Southwest requests clarification of which field should be selected as the default when the reason for evacuation or who ordered it is not known. If there is no default field, a supplemental report will have to be sent to RSPA, possibly contradicting the idea behind the Paperwork Reduction Act of 1995. A similar comment stated that supplemental report filing may contract the intent of the Paperwork Reduction Act of 1995 regarding incidents with cause of plastic pipe failure not always determined or known at the time that the report is submitted.

RSPA/OPS Response: The operator is not expected to expend significant time and effort to determine the numbers of people involved during an evacuation. An indication of order of magnitude is sufficient (1, 10, or closest hundred, thousand, etc.) Local companies should have contact with local emergency responders and officials as part of their standard operating procedures, and obtaining this information could be as simple as calling officials and speaking with responders.

Filing supplemental report information is routine where additional information not available at the time of incident becomes available. Furthermore, RSPA/OPS was urged by the General Accounting Office and others to seek complete incident information beyond that which is known at initial reporting.

Incident Origin—Failure Occurred On

Con Edison recommends that another option labeled “Saddle Tee” be added because it may be confusing as to whether the failure occurred on the body of pipe, joint, component, or other.

RSPA/OPS Response: RSPA/OPS believes that the general public will be best served by utilizing the “Other” option along with the form allowance for a write-in cause. This will allow RSPA/OPS to consider future additions based on frequency of write-in causes.

Corrosion

AGA and Southwest point out that current form fields only allow operators to answer yes or no to the question of whether the pipe was previously damaged in the area of corrosion. Operators would be able to correctly indicate unknown if a field were provided or if instructions included the caveat that a “no” response would be inclusive of an “unknown” response.

RSPA/OPS response: RSPA/OPS has added an “Unknown” field for this element.

Other Outside Force Damage—Fire/Explosion as Primary Cause

AGA believes that instructions on reporting fire or explosion occurring as a result of the pipeline failure, but not as a cause of the failure, should read:

If a fire/explosion occurred as a result of the failure, but was not a primary cause of the failure, do not check item 10 of this section. Part A, items 5d and/or 5f should already be checked to show that the fire/explosion occurred.

Southwest believes that the instructions given for completing this section are inaccurate, and currently lead the operator to the section referencing corrosion. If it is the intent of the form to cover the possibility of fire and/or explosion due to corrosion, Southwest explains that there could be other causes of failure (fatigue, stresses due to rocks or other infrastructure), and suggests that RSPA/OPS revisit the instructions for clarity and relevance.

Con Edison recommends that an item be added for “Electric Wire Down or Electric Fault in a Manhole.” The current form instructions appear to cover only one possibility, namely a fire and/or explosion due to corrosion. There could be other causes of failure due to a downed electric wire or an electric fault in a manhole, which are more common type incidents.

RSPA/OPS response: RSPA/OPS agrees with the comments and has revised the instructions.

Test Medium

RSPA/OPS requires operators to specify the test medium used to establish the Maximum Allowable Operating Pressure (MAOP) and provides check boxes for “water,” “natural gas,” “inert gas,” and “other.” If RSPA/OPS elects to include this data element in the final revised form, APGA recommends that “air” be included as one of the options since the vast majority of distribution piping is tested with air prior to being placed into service. APGA questions whether knowledge of the test medium is necessary for any analysis.

RSPA/OPS Response: RSPA/OPS agrees that information on the test medium is not necessary for analysis. We have eliminated this data element.

Equipment or Operations

RSPA/OPS offers the cause option, “Ruptured or leaking seals/pump packing.” APGA finds this confusing as pumps are not a common component on gas distribution systems. The association also questions whether this refers to pumps only, or if seal or packing leaks on valves, couplings, regulators, meters and other equipment should be included. Unless RSPA/OPS requires that the cause categories be identical across all three incident forms (liquid, gas transmission, and distribution), the field should be deleted. If the pump identification is retained on the form, RSPA/OPS should recognize that confusion about its proper application may make it more difficult to draw statistically significant conclusions about causes of equipment and operations failures.

Con Edison believes this section refers more appropriately to hazardous liquid operations, especially “pump packing.” They recommend changing this item to address more common equipment failures, such as “Mechanical Device Not Installed Properly.” There are many mechanical connectors being used on plastic pipe systems that may not be properly installed, and could lead to an incident. There should be a provision for this. Although there is a box to check off for “Poor Workmanship,” there appears to be no follow-up to this category when a mechanical device is involved.

RSPA/OPS Response: RSPA/OPS recognizes that pump packing is not a common element in the natural gas distribution pipeline industry. Therefore, we change this cause category from “Ruptured or leaking seals/pump packing” to “Leaking Seals.”

Annual Report Form RSPA F 7100.1-1

Federal Land Incident

With regard to leaks reported on annual reports, AGA asks RSPA/OPS to clarify the exclusion that “Federal Buildings such as Federal court houses and warehouses are not to be reported in the incident on Federal lands.” Southwest asks whether the exclusion also applies to leaks reported on the annual report.

RSPA/OPS Response: RSPA/OPS has corrected the definition in the form instructions to state: “All lands owned by the United States except lands in the National Park System, lands held in trust for an Indian or Indian tribe, and lands on the Outer Continental Shelf.” We have eliminated the exclusion of federal buildings because determining whether buildings were federally owned would be an unnecessary burden on pipeline operators and would serve no analytical purpose.

Miles of Main and Numbers of Services by Decade of Installation

RSPA/OPS asks operators to submit data on the decade of installation of mains and services. AGA and APGA state that this information may not be readily available to operators, and ask RSPA/OPS to clarify that operators are not required to undertake a massive records search to develop the data. APGA offers that operators should be able to list mains and services as “unknown” if the data is not readily available.

APGA notes that RSPA/OPS recently began collecting this data from gas transmission and hazardous liquid operators. Transmission and liquid operators are more likely to have the information readily available because these pipelines tend to be constructed in major projects in a particular decade. Distribution mains and services are installed in smaller increments. Every day an operator may be installing new mains and services, retiring mains and services, and replacing small sections of its piping network. Depending on the record keeping systems, developing the requested installation-by-decade data could require significant time and effort.

Southwest believes that the new requirement will require an increase in the number of hours required to collect distribution data—approximately a day or two longer than is required to complete the current distribution annual report.

Atmos questions the value of such information. Until the value of the data is better justified, Atmos prefers that the proposed changes not be made.

RSPA/OPS Response: The lack of information about overall age of the national pipeline infrastructure has been a major data gap identified by RSPA/OPS, the National Transportation Safety Board, the Department of Transportation Office of the Inspector General, the General Accounting Office, and others. RSPA/OPS also emphasizes that operators are not required to undertake a massive records search to develop the data if it is not readily available. RSPA/OPS seeks best estimates only and does not expect operators to conduct costly manual searches. However, we believe that information on most lines should be available. RSPA/OPS believes the value of the data will increase over time and its accuracy will improve. In the long term, mileage by decade will be of significant value.

Average Length of Service Line

Mr. Erikson reports that the use of the RSPA/OPS Annual Report data for analyses is necessary in his safety consultancy, and therefore accuracy and usability of the data is of high interest. Mr. Erikson recommends that RSPA/OPS cease asking for average length of service line. Few, if any, operators know this length, and nearly one-sixth of operators reported an average length of zero feet. Experience with operators points to the fact that numbers reported are often a guess, rendering the information unreliable.

RSPA/OPS Response: The estimated average length of service line data element is the sole source for mileage of services nationally. RSPA/OPS uses this information to survey per decade changes in the overall environment. We also use the information to characterize the overall infrastructure. Therefore, this data element will be retained.

Leak Cause

RSPA/OPS proposes to revise the categories for leaks eliminated and/or repaired during the year. However, APGA asks that RSPA/OPS recognize that many operators collect leak repair data using forms and procedures provided to the field crews. Many operators use computer software to store this data. These forms, procedures, and software will have to be modified to reflect the new categories and the new procedures must be explained to field personnel. APGA urges RSPA/OPS to provide adequate lead-time to allow operators to modify their forms, procedures, and software to start tracking new categories. A minimum of six months between the date that RSPA/OPS promulgates changes to leak categories and the start of the year for which new annual reports will be used to collect leak repair data is deemed reasonable.

RSPA/OPS Response: RSPA/OPS acknowledges that time is needed to revise systems to tabulate the new information on the revised annual report form. Accordingly, we will request the information annually beginning March 15, 2005 for calendar year 2004.

Altering Leak Cause Categories

CPUC provided RSPA/OPS with an extensively revised instruction guide and proposed form for annual report completion to ensure leakage data that would be useful for Colorado regulatory analysis purposes. The proposed form is a tool that alters past definitions used to classify “leaks” into different “Leak Cause” categories. CPUC's recommended instructions are provided with the intent to provide clarity and correlation with past leak cause data collection efforts. Because in-depth failure investigations are conducted for each “incident” as defined under 49 CFR 191.3 during the 30-day incident reporting period, a failure investigation into the cause of a leak under normal gas distribution system operating conditions is usually determined by the operator's field technician. Therefore, instructions should help clarify which leak category the field technician must focus on for the purposes of the annual report.

CPUC suggests that the data collection and reporting using the proposed form should coincide with a full calendar year of leak repair data to ensure meaningful data reporting and analysis. Partial calendar year or “Unknown” data classification will result in inconsistent data collection and questionable conclusions.

RSPA/OPS Response: The data collection for the natural gas distribution annual report has historically been, and will remain, per calendar year for the preceding calendar year. As stated above, we request the revised forms to be filed annually beginning March 15, 2005, for calendar year 2004.

Combining Categories

Southwest questions combining equipment leaks and operation leaks into one category. As explained in the instructions for the annual report, equipment leaks are leaks resulting from malfunctioning valves, regulators, couplings, etc. Operation leaks are leaks resulting from inadequate procedures or safety practices, failure to follow correct procedures, or other operator errors. These categories are distinct and justify separation into their own category. Southwest believes that separating these into distinct categories will better enable RSPA/OPS to perform a proper analysis of the data.

RSPA/OPS Response: RSPA/OPS agrees that the categories are distinct and justify separation into their own category. Accordingly, the form and instructions are changed to separate Equipment leaks and Operation leaks.

Abstract of Proposed Information Collection and Request for Comments

The forms to be revised are two of the four gas pipeline reporting forms authorized by Information Collection OMB 2137-0522, Incident and Annual Reports for Gas Pipeline Operators. The proposed revisions represent the final phase of an ongoing process to revise all incident and annual reports. RSPA/OPS revised the natural gas transmission operator annual report forms in 2001 for collection beginning in 2002.

Title of Information Collection: Incident and Annual Reports for Gas Pipeline Operators—Revision of Natural Gas Distribution Incident Report (RSPA F 7100.1) and the Annual Report Form for Gas Distribution Systems (RSPA F 7100.1-1)

OMB Number: 2137-0522.

Respondents: Natural Gas Distribution Pipeline Operators.

Estimated Number of Respondents: 1,200.

Estimated Total Annual Burden on Respondents: 30,240 hours.

Comments are invited on:

(a) The need for the proposed collection of information for the proper performance of the functions of the agency, including whether the information will have practical utility;

(b) the accuracy of the agency's estimate of the burden of the proposed collection of information, including the validity of the methodology and assumptions used;

(c) ways to enhance the quality, utility, and clarity of the information to be collected; and

(d) ways to minimize the burden of the collection of information on those who are to respond, including the use of appropriate automated, electronic, mechanical, or other technological collection techniques.

Issued in Washington, DC, on December 24, 2003.
Stacey L. Gerard,
Associate Administrator for Pipeline Safety.

[FR Doc. 03-32201 Filed 12-30-03; 8:45 am]

BILLING CODE 4910-60-P